DEPARTMENT OF EDUCATION

[Docket No.: ED-2024-SCC-0030]

Agency Information Collection Activities; Submission to the Office of Management and Budget for Review and Approval; Comment Request; Financial Value Transparency and Gainful Employment Reporting Requirements

AGENCY: Federal Student Aid (FSA), Department of Education (ED).

ACTION: Notice.

SUMMARY: In accordance with the Paperwork Reduction Act (PRA) of 1995, the Department is proposing a new information collection request (ICR).

DATES: Interested persons are invited to submit comments on or before June 17, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-570-8414.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Financial Value Transparency and Gainful Employment Reporting Requirements.

OMB Control Number: 1845-NEW.

Type of Review: A new ICR.

Respondents/Affected Public: State, Local, and Tribal Governments; Private Sector.

Total Estimated Number of Annual Responses: 284,574.

Total Estimated Number of Annual Burden Hours: 2,300,810.

Abstract: The regulations in § 668.408 in Subpart Q—Financial Value Transparency, that were negotiated in 2022 and the Final Rule published in 2023, establish reporting requirements for postsecondary institutions who participate in the title IV programs under the Higher Education Act of 1965, as amended, to report on their students who enroll in, complete, or withdraw from a gainful employment (GE) program or an eligible non-GE program in specified award years. The new regulations also define the timeframes for institutions to report the required information. This is a new collection. We calculate the average annual burden hours as 2,300,810 for the average 284,574 responses by 4,518 respondents over 3 years. We divided the total 3 year burden hours 6,902,430 by the 853,723 responses to obtain these averages.

Dated: May 14, 2024.
Stephanie Valentine,
PRA Coordinator, Strategic Collections and Clearance, Governance and Strategy Division, Office of Chief Data Officer, Office of Planning, Evaluation and Policy Development.

[FR Doc. 2024-10905 Filed 5-16-24; 8:45 am]

BILLING CODE 4000-01-P